ENVIRONMENTAL PROTECTION AGENCY

[OAR-2002-0081; FRL-7930-5]

RIN 2060-AJ92

National Emission Standards for Hazardous Air Pollutants: Revision of Source Category List Under Section 112 of the Clean Air Act

AGENCY: Environmental Protection Agency (EPA).

ACTION: Notice of revisions to the list of major source categories.

SUMMARY: This action updates the list of major sources of hazardous air pollutants (HAP) emissions for which regulatory actions have been developed. The source category list is required under section 112(c) of the Clean Air Act (CAA) and was last published in the Federal Register on February 12, 2002.

This action meets the requirement in section 112(c)(1) to publish from time to time, but no less often than every 8 years, a list of all major categories and subcategories of sources reflecting revisions since the list was last published. The revisions reflected in this notice have previously been published in actions associated with proposing and promulgating emission standards for individual source categories, and public comments have been requested in the context of those actions. This action does not include any revisions to the schedule for standards provided for by CAA section 112(e).

EFFECTIVE DATE: June 30, 2005.

ADDRESSES: EPA has established a docket for this action under Docket ID No. OAR-2002-0081. All documents in the docket are listed in the index. Publicly available docket materials are available for public inspection and copying between 8:30 a.m. and 4:30 p.m., Monday through Friday, excluding legal holidays. The docket is located at: U.S. EPA, Air and Radiation Docket and Information Center (6102T), 1301 Constitution Avenue, NW., Room B108, Washington, DC 20460, or by calling (202) 566-1744 or 1742. A reasonable fee may be charged for copying docket materials.

FOR FURTHER INFORMATION CONTACT: Ms. Maria Noell, U.S. EPA, Office of Air Quality Planning and Standards (OAQPS), Organic Chemicals Group (C504-4), Research Triangle Park, North Carolina 27711, telephone number (919) 541-5607, facsimile number (919) 541-3470, electronic mail address noell.maria@epa.gov.

SUPPLEMENTARY INFORMATION: Docket. EPA has established an official public docket for this action under Docket ID No. OAR-2002-0081. The official public docket consists of the documents specifically referenced in this action, any public comments received, and other information related to this action. Although a part of the official docket, the public docket does not include Confidential Business Information or other information whose disclosure is restricted by statute. The official public docket is the collection of materials that is available for public viewing at the Office of Air and Radiation Docket and Information Center (Air Docket) in the EPA Docket Center, (EPA/DC) EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742.

Electronic Docket Access. You may access this notice electronically through the EPA Internet under the Federal Register listings at http://www.epa.gov/fedrgstr/.

An electronic version of the public docket is available through EPA's electronic public docket and comment system, EPA Dockets. You may use EPA Dockets at http://www.epa.gov/edocket/ to view public documents, access the index listing of the contents of the official public docket, and to access those documents in the public docket that are available electronically. Although not all docket materials may be available electronically, you may still access any of the publicly available docket materials through the docket facility in the above paragraph entitled “Docket.” Once in the system, select “search,” then key in the appropriate docket identification number.

Worldwide Web (WWW). In addition to being available in the docket, an electronic copy of today's notice will also be available on the WWW through the Technology Transfer Network (TTN). Following signature, a copy of the notice will be posted on the TTN's policy and guidance page for newly proposed or promulgated rules http://www.epa.gov/ttn/oarpg. The TTN provides information and technology exchange in various areas of air pollution control. If more information regarding the TTN is needed, call the TTN HELP line at (919) 541-5384.

I. What Is the History of the Source Category List?

The CAA requires, under section 112, that EPA list all categories of major sources emitting HAP and such categories of area sources warranting regulation and promulgate national emission standards for hazardous air pollutants (NESHAP) to control, reduce, or otherwise limit the emissions of HAP from such categories of major and area sources. Pursuant to the various specific listing requirements in section 112(c), on July 16, 1992 (57 FR 31576), we published a list of 174 categories of major and area sources—referred to as the initial list—for which we would develop emission standards. On December 3, 1993 (58 FR 63941), pursuant to requirements in section 112(e), we published a schedule for the promulgation of emission standards for each of the 174 initially listed source categories.

When we publish notices that affect actions relating to individual source categories, it is important to reflect the resultant changes on the list. We published five separate notices where we listed or removed sources for specific pollutants under section 112(c)(6) on April 10, 1998 (63 FR 17838); and added area sources under section 112(k) on July 19, 1999 (64 FR 38706); June 26, 2002 (67 FR 43112); November 8, 2002 (67 FR 68124); and November 22, 2002 (67 FR 70427). On June 4, 1996 (61 FR 28197), we published a notice that referenced all previous list and schedule changes and consolidated those actions, along with several new actions, into a revised source category list and schedule. Subsequently, we published five additional notices which updated the list and schedule: February 12, 1998 (63 FR 7155); May 17, 1999 (64 FR 26743); November 18, 1999 (64 FR 63025); January 30, 2001 (66 FR 8220); and February 12, 2002 (67 FR 6521). You should read the previous notices for information relating to the development of the initial list and schedule and subsequent changes.

II. Why Is EPA Issuing This Notice?

This notice announces the changes to the source category list that have occurred since we last updated the list on February 12, 2002 (67 FR 6521).

For general descriptions of source categories listed in Table 1, please refer to “Documentation for Developing the Initial Source Category List” (EPA-450/3-91-030) and the Federal Register notice for the first revision of the source category list and schedule (61 FR 28197, June 4, 1996). For subsequent changes and/or amendments to the major source categories listed, please refer to: http://www.epa.gov/ttn/atw/mactfnlalph.html.

III. What Are the Revisions EPA Is Making to the Source Category List?

A. Changes to Source Category Names

The following source categories were renamed to better describe the source category:

1. Amino Resins Production and Phenolic Resins Production are subsumed and renamed Amino/Phenolic Resins Production.

2. Engine Test Facilities is renamed Engine Test Cells/Stands.

3. Industrial Boilers is renamed Industrial/Commercial/Institutional Boilers and Process Heaters.

4. Printing, Coating, and Dyeing of Fabrics is renamed Printing, Coating, and Dyeing of Fabrics and Other Textiles.

5. Refractories Manufacturing is renamed Refractory Products Manufacturing.

B. Division of a Source Category To Create Two New Source Categories

The Brick and Structural Clay Products Manufacturing source category and the Clay Ceramics Manufacturing source category were separated and added to the list of categories of major sources. These newly created source categories are replacing the Clay Products Manufacturing source category, which was on the initial list of source categories to be regulated. For further information, you should refer to the proposed preamble to the NESHAP for Brick and Structural Clay Products Manufacturing and the NESHAP for Clay Ceramics Manufacturing (67 FR 47894, July 22, 2002), which serve as the official actions to add the source categories. These NESHAP were promulgated on May 16, 2003 at 68 FR 26690.

C. Subsumptions of Source Categories

Today's notice updates the source category list to reflect the following subsumptions:

1. Amino/Phenolic Resins Production

Amino Resins and Phenolic Resins source categories were subsumed and renamed Amino/Phenolic Resins Production. The information obtained during the information gathering phase of the project demonstrated that the manufacturing processes, emission characteristics, and applicable control technologies for facilities in these two source categories are similar. Based on these factors, the EPA concluded that these two source categories are to be treated as a single source category. For further information, you should refer to the preamble to the proposed NESHAP for Manufacture of Amino/Phenolic Resins at 63 FR 68832 (December 14, 1998), and the final NESHAP for Amino/Phenolic Resins Production at 65 FR 3275 (January 20, 2000) which serve as the official actions to rename and combine the source categories.

2. Engine Test Cells/Stands

The Engine Test Facilities and Rocket Engine Tet Firing source categories were subsumed and renamed the Engine Test Cells/Stands source category. After gathering information about the source categories, we concluded that rocket testing facilities are similar in many respects to engine test cells/stands; therefore, we decided to regulate rocket engine test firing facilities as a subcategory of the Engine Test Cells/Stands source category. For further information, you should refer to the proposed preamble for the NESHAP for Engine Test Cells/Stands at 67 FR 34548 (May 14, 2002), and the final NESHAP for Engine Test Cells/Stands at 68 FR 28774 (May 27, 2003) which serve as the official actions to rename and combine the source categories.

3. Hydrochloric Acid Production

The Fume Silica Production source category was subsumed into the Hydrochloric Acid Production source category. Originally, both hydrochloric acid production and fume silica production were listed separately as major sources under the production of inorganic chemicals group. In developing the respective NESHAP, it was learned that the primary source of HAP emissions in the two source categories was the same process. For further information, you should refer to the proposed preamble for the NESHAP for Hydrochloric Acid Production at 66 FR 48175 (September 8, 2001), and the final NESHAP for Hydrochloric Acid Production at 68 FR 19076 (April 17, 2003) which serve as the official actions to combine the source categories.

4. Industrial/Commercial/Institutional Boilers and Process Heaters

The Institutional/Commercial Boilers, the Process Heaters, and the Industrial Boiler source categories have been combined into the Industrial/Commercial/Institutional Boilers and Process Heaters source category. For further information, you should refer to the proposed preamble for the Industrial/Commercial/Institutional Boilers and Process Heaters NESHAP at 68 FR 1660 (January 13, 2003), and the final NESHAP for Industrial/Commercial/Institutional Boilers and Process Heaters at 69 FR 55218 (September 13, 2004) which serve as the official actions to combine the source categories.

5. Iron and Steel Foundries

The Iron Foundries and the Steel Foundries source categories have been combined into a new major source category called Iron and Steel Foundries. Since some facilities produce both iron castings and steel castings in the same foundry (i.e., using the same equipment), it is more sensible to have facilities subject to only one rule rather than two separate rules. For further information, you should refer to the proposed preamble for the NESHAP for Iron and Steel Foundries at 67 FR 78274 (December 23, 2002), and the final NESHAP for Iron and Steel Foundries at 69 FR 21906 (April 22, 2004) which serve as the official actions to combine the source categories.

6. Surface Coating of Miscellaneous Metal Parts and Products

The Asphalt/Coal Tar Application-Metal Pipes source category has been subsumed into the Surface Coating of Miscellaneous Metal Parts and Products source category. For further information, you should refer to the proposed preamble for the NESHAP for Surface Coating of Miscellaneous Metal Parts and Products at 67 FR 52780 (August 31, 2002), and the final NESHAP for Surface Coating of Miscellaneous Metal Parts and Products at 69 FR 130 (January 2, 2004) which serve as the official actions to combine the source categories.

7. Miscellaneous Organic Chemical Manufacturing and Miscellaneous Coating Manufacturing

The following source categories have been subsumed into the Miscellaneous Organic Chemical Manufacturing source category: benzyltrimethylammonium chloride production, carbonyl sulfide production, chelating agents production, chlorinated paraffins production, ethylidene norbornene production, explosives production, hydrazine production, photographic chemicals production, phthalate plasticizers production, rubber chemicals production, symmetrical tetrachloropyridine production, OBPA/1,3-diisocyanate production, alkyd resins production, polyester resins production, polyvinyl alcohol production, polyvinyl acetate emulsions production, polyvinylbutyral production, polymerized vinylidene chloride production, polymethylmethacrylate production, maleic anhydride copolymers production, ammonium sulfate production—caprolactam by-product plants, and quaternary ammonium compounds production. Along with these 22 source categories, the Miscellaneous Organic Chemical Manufacturing source category was also defined to include other organic chemical manufacturing processes which are not being covered by any other maximum achievable control technology standards.

The Manufacture of Paints, Coatings, and Adhesives source category has been subsumed into the Miscellaneous Coating Manufacturing source category. For further information, you should refer to the proposed preamble for the NESHAP for Miscellaneous Organic Chemical Manufacturing and Miscellaneous Coating Manufacturing at 67 FR 16154 (April 4, 2002). The final NESHAP for Miscellaneous Organic Chemical Manufacturing was promulgated at 68 FR 63852 (November 10, 2003), and the final NESHAP for Miscellaneous Coating Manufacturing was promulgated at 68 FR 69164 (December 11, 2003). These final NESHAP serve as the official actions to combine and rename the source categories.

D. Changes to Source Category Designation

In a final rule issued on March 29, 2005, at 70 FR 15994, EPA revised the regulatory finding that it issued in December 2000 pursuant to section 112(n)(1)(A) of the CAA and removed coal- and oil-fired electric utility steam generating units from the CAA section 112(c) source category list. EPA promulgated the Standards of Performance for New and Existing Stationary Sources: Electric Utility Steam Generating Units on March 15, 2005, under the authority of CAA section 111. Today's notice updates the source category list to reflect the March 29 final action.

Today's notice also serves as the official notice of our determination that currently there are no major sources with paint stripping operations whose operations are not already subject to other NESHAP. As a result, we are subsuming paint stripping operations into those other NESHAP. Paint stripping is a process that is invariably part of a larger process whose purpose is to prepare a surface for a new coating. The process of removing the old coat, preparing the surface, and applying a new one is, as we found, regulated by other NESHAP, and these NESHAP have already helped us significantly reduce emissions of HAP from major sources and satisfy our obligation under CAA section 112(d) to set standards for major sources in the paint stripping source category.

The Paint Stripping Operations source category was listed for regulation under section 112(c) of the CAA. Paint stripping is defined, for purposes of rulemaking, as the removal of paint, or any other type of coating, using HAP-containing chemicals. Methylene chloride is the HAP that predominates in paint stripping operations. Major sources of paint stripping include facilities that use methylene chloride or other HAP to remove coatings from furniture, aircraft, metal parts, or any other type of component for purposes of preparing the surface for a new coating.

To identify major sources of paint stripping operations, we engaged in a number of activities that helped us obtain information about the nature of the paint removal processes at a given facility and the associated HAP emissions. This process included searching emissions databases, such as the Atmospheric Information Retrieval System (AIRS), to find facilities with methylene chloride and any other types of facilities that perform paint removal. Even though we were able to identify many facilities with methylene chloride emissions, we found no unregulated major sources through this search that would be affected by paint stripping NESHAP. Our search included both free standing major sources and collocated sources. We identified several major sources that perform paint removal operations; however, these operations are already regulated under other surface coating NESHAP such as aerospace and wood furniture.

We also reviewed the air permits and related information of potential paint stripping facilities with HAP emissions in several States. We requested the States of North Carolina, California, New York, Illinois, Texas, and Florida to provide us with lists of facilities that emit methylene chloride or any other HAP associated with paint removal processes. These States were a representative subset with relatively large numbers of facilities with reported methylene chloride emissions. Our information gathering and permit review effort with these States identified no major sources that would be potentially affected by a paint stripping NESHAP. Even though we identified several sources with paint stripping operations, either the operations were already covered by other NESHAP as listed below, or the sources were not major sources. Supporting documentation for these activities can be found in the “Paint Stripping Operations” docket (number A-99-42). The ADDRESSES section of this preamble provides information on how to obtain copies of documents contained in the docket.

Source category | Status | Subpart | FR publication date and citation or contact information
Aerospace Industry | Final | GG | 09/01/95, 60FR45948
Large Appliance (Surface Coating) | Final | NNNN | 7/23/02, 67FR48253
Metal Furniture (Surface Coating) | Proposed | RRRR | 04/24/02, 67FR20205
Misc. Metal Parts and Products (Surface Coating) | Proposed | MMMM | 08/13/02, 67FR52799
Wood Furniture | Final | JJ | 12/07/95, 60FR62930

There are, however, thousands of small paint stripping facilities that are not major sources and that release HAP emissions. These small facilities will be studied and potentially subject to rulemaking in the future as area sources.

IV. Is This Action Subject to Judicial Review?

Section 112(e)(4) of the CAA states that, notwithstanding section 307 of the CAA, no action of the Administrator listing a source category or subcategory under section 112(c) shall be a final Agency action subject to judicial review, except that any such action may be reviewed under section 307 when the Administrator issues emission standards for such pollutant or category. Section 112(e)(3) states that the determination of priorities for promulgation of standards for the listed source categories is not a rulemaking and is not subject to judicial review, except that failure to promulgate any standard pursuant to the schedule established under section 112(e) shall be subject to review under section 304 of the CAA. Therefore, today's notice is not subject to judicial review.

V. Is EPA Asking for Public Comment?

Prior to issuance of the initial source category list, we published a draft initial list for public comment (56 FR 28548, June 21, 1991). Although we were not required to take public comment on the initial source category list, we believed it was useful to solicit input on a number of issues related to the list. Indeed, in most instances, even where there is no statutory requirement to take comment, we solicit public comments on actions we are contemplating. We have decided, however, that it is unnecessary to solicit additional public comment on the revisions reflected in today's action. Most of the changes discussed in this notice have been subject to comment in the MACT standard setting process.

VI. Statutory and Executive Order Reviews

Today's action is not a rule; it is essentially an information sharing activity which does not impose regulatory requirements or costs. Therefore, the requirements of Executive Order 13045 (Protection of Children from Environmental Health Risks and Safety Risks), Executive Order 13084 (Consultation and Coordination with Indian Tribal Governments), Executive Order 13132 (Federalism), Executive Order 13211 (Actions Concerning Regulations that Significantly Affect Energy Supply, Distribution or Use), the Regulatory Flexibility Act, the National Technology Transfer and Advancement Act, and the Unfunded Mandates Reform Act do not apply to today's notice. Also, this notice does not contain any information collection requirements and, therefore, is not subject to the Paperwork Reduction Act, 44 U.S.C. 3501 et seq.

Under Executive Order 12866 (58 FR 51735, October 4, 1993), a regulatory action determined to be “significant” is subject to the Office of Management and Budget (OMB) review and the requirements of the Executive Order. The Executive Order defines “significant” regulatory action as one that is likely to lead to a rule that may either (1) Have an annual effect on the economy of $100 million or more, or adversely affect a sector of the economy, productivity, competition, jobs, the environment, public health or safety, or State, local or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in the Executive Order.

The OMB has determined that this action is not significant under the terms of Executive Order 12866.

Dated: June 23, 2005.
Jeffrey R. Holmstead,
Assistant Administrator for Air and Radiation.

Table 1.—Categories of Major Sources of Hazardous Air Pollutants and Regulation Proposal and Promulgation Dates
[Revision Date: June 30, 2005.) Refer to http://www.epa.gov/ttn/atw/mactfnlalph.html for the listing of all regulatory actions for each individual rule and http://www.epa.gov/ttn/atw/socatlst/socatpg.html for previous notices on the source category list and revisions.]
Source category | Statutory promulgation date court-ordered date | Federal Register proposal and final citations and dates
Aerospace Industries | 11/15/1994 N/A | 59FR29216(P), 6/6/1994 60FR45956(F), 9/1/1995
Asphalt Processing and Asphalt Roofing Manufacturing | 11/15/2000 2/28/2003 | 66FR58610(P), 11/21/2001 68FR24562(F), 5/7/2003
Auto and Light Duty Truck (Surface Coating) | 11/15/2000 2/28/2004 | 67FR78612(P), 12/24/2002 69FR22601(F), 4/26/2004
Boat Manufacturing | 11/15/2000 NA | 65FR43842(P), 7/14/2000 66FR44218(F), 8/22/2001
Brick and Structural Clay Products Manufacturing | 11/15/2000 2/28/2003 | 67FR47894(P), 7/22/2002 68FR26690(F), 5/16/2003
Cellulose Products Manufacturing | 11/15/2000 NA | 65FR52166(P), 8/28/2000 67FR40044(F), 6/11/2002
Cellulose Ethers Production:
• Methyl Cellulose
• Carboxymethylcellulose
• Cellulose Ethers
Miscellaneous Viscose Processes:
• Cellulose Food Casing
• Rayon
• Cellulosic Sponge
• Cellophane
Chemical Recovery Combustion Sources at Kraft, Soda, Sulfite and Stand-Alone Semi-Chemical Pulp Mills—MACT II | 11/15/1997 12/15/2000 | 63FR18754(P), 4/15/1998 66FR3180(F), 1/12/2001
Chromium Electroplating | 11/15/1994 NA | 58FR65768(P), 12/16/1993 60FR4948(F), 1/25/1995
• Chromic Acid Anodizing
• Decorative Acid
• Hard Chromium Electroplating
Clay Ceramics Ceramics Manufacturing | 11/15/2000 2/28/2003 | 67FR47894(P), 7/22/2002 68FR26690(F), 5/16/2003
Coke Ovens: Charging, Top Side and Door Leaks | 12/31/1992 NA | 57FR57534(P), 12/4/1992 58FR57898(F), 10/27/1993
Coke Ovens: Pushing, Quenching and Battery Stacks | 11/15/2000 2/28/2003 | 66FR35326(P), 7/3/2001 68FR18008(F), 4/14/2003
Combustion Turbines | 11/15/2000 8/29/2003 | 68FR1888(P), 1/13/2003 69FR10512(F), 3/5/2004
Commercial Sterilizers | 11/15/1994 NA | 59FR10591(P), 3/7/1994 59FR62585(F), 12/6/1994
Dry Cleaning | 11/15/1992 NA | 56FR64382(P), 12/9/1991 58FR49354(F), 9/22/1993
• Commercial Dry Cleaning Dry-to-Dry
• Commercial Dry Cleaning Transfer Machines
• Industrial Dry Cleaning Dry-to-Dry
• Industrial Dry Cleaning Transfer Machines
Engine Test Cells/Stands | 11/15/2000 2/28/2003 | 67FR34548(P), 5/14/2002 68FR28774(F), 5/27/2003
Fabric Printing, Coating, and Dyeing | 11/15/2000 2/28/2003 | 67FR46028(P), 7/11/2002 68FR32172(F), 5/29/2003
Ferroalloys Production: Silicomanganese and Ferromanganese | 11/15/1997 5/15/1999 | 63FR41509(P), 8/4/1998 64FR7149(SP), 2/12/1999 64FR27450(F), 5/20/1999
Flexible Polyurethane Foam Fabrication Operations | 11/15/2000 2/28/2003 | 66FR41718(P), 8/8/2001 68FR18062(F), 4/14/2003
Flexible Polyurethane Foam Production | 11/15/1997 NA | 61FR68406(P), 12/27/1996 63FR53980(F), 10/7/1998
Friction Materials Manufacturing | 11/15/2000 NA | 66FR50768(P), 10/4/2001 67FR64498(F), 10/18/2002
Gasoline Distribution (Stage 1) | 11/15/1994 NA | 59FR5868(P), 2/8/1994 59FR64303(F), 12/14/1994
Generic MACT I | 11/15/1997 5/15/1999 | 63FR55178(P), 10/14/1998 64FR34854(F), 6/29/1999
• Acetal Resins Production
• Acrylic Fibers/Modacrylic Fibers Production
• Hydrogen Fluoride Production
• Polycarbonates Production
Generic MACT II | 11/15/2000 NA | 65FR76408(P), 12/67/2000 67FR46258(F), 7/12/2002
• Carbon Black Production
• Spandex Production
• Cyanide Chemicals Manufacturing
• Ethylene Processes
Hazardous Waste Combustors Phase I | 11/15/2000 | 61FR17358(P), 4/19/1996 64FR52828(F), 9/30/1999
Phase II | NA | 69FR21198(P), 4/20/2004
Hydrochloric Acid Production | 11/15/2000 2/28/2003 | 66FR48174(P), 9/18/2001 68FR19076(F), 4/17/2003
Industrial/Commercial/Institutional Boilers and Process Heaters | 11/15/2000 2/27/2004 | 68FR1660(P), 2/26/2004 69FR55218(F), 9/13/2004
Industrial Process Cooling Towers | 11/15/1994 NA | 58FR43028(P), 8/12/1993 59FR46339(F), 9/8/1994
Integrated Iron and Steel Manufacturing | 11/15/2000 2/28/2003 | 66FR36836(P), 7/13/2001 68FR27645(F), 5/20/2003
Iron and Steel Foundries | 11/15/2000 8/29/2003 | 67FR78274(P), 12/23/2002 69FR21905(F), 4/22/2004
Large Appliance (Surface Coating) | 11/15/2000 NA | 65FR81134(P), 12/22/2000 67FR48254(F), 7/23/2002
Leather Finishing Operations | 11/15/2000 NA | 65FR58702(P), 10/2/2000 67FR9156(F), 2/27/2002
Lime Manufacturing | 11/15/2000 8/29/2003 | 67FR78046(P), 12/20/2002 69FR394(F), 1/5/2004
Magnetic Tapes (Surface Coating) | 11/15/1994 NA | 59FR11662(P), 3/11/1994 59FR64580(F), 12/15/1994
Manufacturing of Nutritional Yeast | 11/15/2000 NA | 63FR55812(P), 10/19/1998 64FR27876(F), 5/21/2001
Marine Vessel Loading Operations | 11/15/1997 NA | 59FR25004(P), 5/13/1994 60FR48388(F), 9/19/1995
Metal Can (Surface Coating) | 11/15/2000 8/29/2003 | 68FR2110(P), 1/15/2003 68FR64432(F), 11/13/2003
Metal Coil (Surface Coating) | 11/15/2000 NA | 65FR44616(P), 7/18/2000 67FR39794(F), 6/10/2002
Metal Furniture (Surface Coating) | 11/15/2000 2/28/2003 | 67FR20206(P), 4/24/2002 68FR28606(F), 5/23/2003
Mineral Wool Production | 11/15/1997 5/15/1999 | 62FR25370(P), 5/8/1997 64FR7149(SP), 2/12/1999 64FR29490(F), 6/1/1999
Miscellaneous Coatings Manufacturing | 11/15/2000 8/29/2003 | 67FR16154(P), 4/4/2002 68FR69164(F), 12/11/2003
Miscellaneous Metal Parts and Products (Surface Coating) | 11/15/2000 8/29/2003 | 67FR52780(P), 8/13/2002 69FR130(F), 1/2/2004
Miscellaneous Organic Chemical Manufacturing | 11/15/2000 8/29/2003 | 67FR16154(P), 4/4/2002 68FR63852(F), 11/10/2003
• Alkyd Resins
• Ammonium Sulfate Production-Caprolactum By-Products
• Benzyltrimethylammonium Chloride
• Carbonyl Sulfide
• Chelating Agents
• Chlorinated Paraffins
• Ethylidene Norbornene
• Explosives
• Hydrazine
• Maleic Anhydride Copolymers
• OBPA/1, 3-Diisocyanate
• Photographic Chemicals
• Phthalate Plasticizers
• Polyester Resins
• Polymerized Vinylidene Chloride
• Polymethyl Methacrylate Resins
• Polyvinyl Acetate Emulsions
• Polyvinyl Alcohol
• Polyvinyl Butyral
• Quaternary Ammonium Compounds
• Rubber Chemicals
• Symmetrical Tetrachloropyridine
Municipal Solid Waste Landfills | 11/15/2000 NA | 65FR66672(P), 11/7/2000 67FR36459(SP), 5/23/2002 68FR2227(F), 1/16/2003
Off-Site Waste and Receovery Operations | 11/15/1994 NA | 59FR51913(P), 10/13/1994 61FR34140(F), 7/1/1996
Oil and Natural Gas Production | 11/14/1997 5/15/1999 | 63FR6288(P), 2/6/1998 64FR32610(F), 6/17/1999
Organic Liquids Distribution (Non-Gasoline) | 11/15/2000 8/29/2003 | 67FR15674(P), 4/2/2002 69FR5038(F), 2/3/2004
Paper and Other Web (Surface Coating) | 11/15/2000 NA | 65FR55332(P), 9/13/2000 67FR72330(F), 12/4/2002
Pesticide Active Ingredient Production | 11/15/1997 5/15/1999 | 62FR60566(P), 10/10/1997 64FR33549(F), 6/23/1999
Petroleum Refineries—Catalytic Cracking Units, Catalytic Reforming Units, and Sulfur Recovery Units | 11/15/1997 5/15/1999 | 63FR48890(P), 9/11/1998 67FR17762(F), 4/11/2002
Petroleum Refineries—Other Sources Not Distinctly Listed | 11/15/1994 NA | 59FR36130(P), 7/15/1994 60FR43244(F), 8/18/1995
Pharmaceuticals Productions | 11/15/1997 NA | 62FR15753(P), 4/2/1997 63FR50280(F), 9/21/1998
Phosphate Fertilizers Production and Phosphoric Acid Manufacturing | 11/15/1997 5/15/1999 | 61FR68430(P), 12/27/1996 64FR31358(F), 6/10/1999
Plastic Parts and Products (Surface Coating) | 11/15/2000 8/29/2003 | 67FR72276(P), 12/4/2002 69FR20967(F), 4/19/2004
Plywood and Composite Wood Products | 11/15/2000 2/28/2004 | 68FR1276(P), 1/9/2003 69FR45944(F), 7/30/2004
Polyether Polyols Production | 11/15/1997 5/15/1999 | 62FR46804(P), 9/4/1997 64FR19420(F), 6/1/1999
Polymers and Resins | 11/15/1994 NA | 60FR30801(P), 6/12/1995 61FR46906(F), 9/5/1996
• Butyl Rubber
• Epichlorohydrin Elastomers
• Ethylene-Propylene Rubber
• Hypalon (tm)
• Neoprene
• Nitrile Butadiene Rubber
• Polybutadiene Rubber
• Polysulfide Rubber
• Styrene-Butadiene Rubber and Latex
Polymers and Resins II | 11/15/1994 NA | 59FR25387(P), 5/16/1994 60FR12670(F), 3/8/1995
• Epoxy Resins
• Non-Nylon Polyamides
Polymers and Resins III—Amino/Phenolic Resins | 11/15/1997 12/15/1999 | 63FR68832(P), 12/14/1998 65FR3276(F), 1/20/2000
Polymers and Resins IV | 11/15/1994 NA | 60FR16090(P), 3/29/1995 61FR48208(F), 9/12/1996
• Acrylonitrile-Butadiene-Styrene
• Methyl Methacrylate-Acrylonitrile-Butadiene-Styrene
• Methyl Methacrylate-Butadiene-Styrene Terpolymers
• Nitrile Resins
• Polyethylene Terephthalate
• Polystyrene
• Styrene-Acrylonitrile
Polyvinyl Chloride and Copolymers Production | 11/15/2000 NA | 65FR76958(P), 12/6/2000 67FR45886(F), 7/10/2002
Portland Cement Manufacturing | 11/15/1997 5/15/1999 | 63FR14182(P), 3/24/1998 64FR31897(F), 6/14/1999
Primary Aluminum Production | 11/15/1997 NA | 61FR188(P), 9/26/1996 62FR52383(F), 10/07/1997
Primary Copper Smelting | 11/15/1997 5/15/1999 | 63FR19582(P), 4/20/1998 65FR39326(SP), 6/26/2000 67FR40477(F), 6/12/2002
Primary Lead Smelting | 11/15/1997 5/15/1999 | 63FR19200(P), 4/17/1998 64FR30194(F), 6/4/1999
Primary Magnesium Refining | 11/15/2000 8/29/2003 | 68FR2970(P), 1/22/2003 68FR58615(F), 10/10/2003
Printing and Publishing (Surface Coating) | 11/15/1994 NA | 60FR13664(P), 3/14/1995 61FR27132(F), 5/30/1996
Publicly Owned Treatment Works | 11/15/1995 10/15/1999 | 63FR66084(P), 12/1/1998 64FR57572(F), 10/26/1999
Pulp and Paper Production (MACT I and III) | 11/15/1994 NA | 58FR66078(P), 12/17/1993 63FR18504(F), 4/15/1998
Reciprocating Internal Combustion Engines | 11/15/2000 2/28/2003 | 67FR77830(P), 12/19/2002 69FR33474(F), 6/15/2004
Refractory Products Manufacturing | 11/15/2000 2/28/2003 | 68FR42108(P), 6/20/2002 68FR18730(F), 4/16/2003
Reinforced Plastic Composites Production | 11/15/2000 2/28/2003 | 66FR40324(P), 8/2/2001 68FR19375(F), 4/21/2003
Rubber Tire Manufacturing | 11/15/2000 NA | 65FR62414(P), 10/18/2000 67FR45588(F), 7/9/2002
Secondary Aluminum Production | 11/15/1997 12/15/1999 | 63FR6946(P), 2/11/1999 65FR15689(F), 3/23/2000
Secondary Lead Smelting | 11/15/1994 NA | 59FR63941(P), 6/9/1994 60FR32587(F), 6/23/1995
Semiconductor Manufacturing | 11/15/2000 2/28/2003 | 67FR30848(P), 5/8/2002 68FR27913(F), 5/22/2003
Shipbuilding and Ship Repair (Surface Coating) | 11/15/1994 NA | 59FR62681(P), 12/6/1994 60FR64330(F), 12/15/1995
Site Remediation | 11/15/2000 8/29/2003 | 67FR49398(P), 7/30/2002 68FR58172(F), 10/8/2003
Solvent Extraction for Vegetable Oil Production | 11/15/2000 NA | 65FR34251(P), 5/26/2000 66FR19006(F), 4/12/2001
Steel Pickling— HCL Process Facilities and Hydrochloric Acid Regeneration Plants | 11/15/1997 05/15/1999 | 62FR49051(P), 9/18/1997 64FR33202(F), 6/22/1999
Synthetic Organic Chemical Manufacturing— Hazardous Organic NESHAP—Tetrahy-drobenzaldehyde Manufacture | 11/15/1992 | 57FR62608(P), 12/31/1992 59FR19402(F), 4/22/1994
| NA | 62FR44614(P), 8/22/1999 63FR26078(F), 5/12/1998
Taconite Iron Ore Processing | 11/15/2000 8/29/2003 | 67FR77562(P), 12/18/2002 68FR61868(F), 10/30/2003
Wet-Formed Fiberglass Mat Production | 11/15/2000 NA | 65FR34278(P), 5/26/2000 67FR17824(F), 4/11/2002
Wood Building Products (Surface Coating) | 11/15/2000 2/28/2003 | 67FR42400(P), 6/21/2002 68FR31746(F), 5/28/2003
Wood Furniture (Surface Coating) | 11/15/1994 NA | 58FR62652(P), 12/6/1994 60FR62930(F), 12/7/1995
Wool Fiberglass Manufacturing | 11/15/1997 5/15/1999 | 62FR15228(P), 3/31/1997 64FR7149(SP), 2/12/1999 64FR31695(F), 6/14/1999
Legend: (P)—Proposal; (SP)—Supplementary Proposal; (F)—Final.

[FR Doc. 05-12942 Filed 6-29-05; 8:45 am]

BILLING CODE 6560-50-P